DEPARTMENT OF THE INTERIOR

Bureau of Safety and Environmental Enforcement

[Docket ID BSEE-2015-0010; OMB Control Number 1014-0017; 15XE1700DX EEEE500000 EX1SF0000.DAQ000]

Information Collection Activities: Safety and Environmental Management Systems (SEMS); Submitted for Office of Management and Budget (OMB) Review; Comment Request

ACTION: 30-day notice.

SUMMARY: To comply with the Paperwork Reduction Act of 1995 (PRA), the Bureau of Safety and Environmental Enforcement (BSEE) is notifying the public that we have submitted to OMB an information collection request (ICR) to renew approval of the paperwork requirements in the regulations under subpart S, Safety and Environmental Management Systems (SEMS). This notice also provides the public a second opportunity to comment on the revised paperwork burden of these regulatory requirements.

DATES: You must submit comments by November 19, 2015.

ADDRESSES: Submit comments by either fax (202) 395-5806 or email (OIRA_Submission@omb.eop.gov) directly to the Office of Information and Regulatory Affairs, OMB, Attention: Desk Officer for the Department of the Interior (1014-0017). Please provide a copy of your comments to BSEE by any of the means below.

• Electronically go to http://www.regulations.gov. In the Search box, enter BSEE-2015-0010 then click search. Follow the instructions to submit public comments and view all related materials. We will post all comments.

• Email cheryl.blundon@bsee.gov, fax (703) 787-1546, or mail or hand-carry comments to the Department of the Interior; Bureau of Safety and Environmental Enforcement; Regulations and Standards Branch; ATTN: Cheryl Blundon; 45600 Woodland Road, Sterling, VA 20166. Please reference ICR 1014-0017 in your comment and include your name and return address.

FOR FURTHER INFORMATION CONTACT: Cheryl Blundon, Regulations and Standards Branch, (703) 787-1607, to request additional information about this ICR. To see a copy of the entire ICR submitted to OMB, go to http://www.reginfo.gov (select Information Collection Review, Currently Under Review).

SUPPLEMENTARY INFORMATION: Title: 30 CFR 250, Subpart S, Safety and Environmental Management Systems (SEMS).

Form(s): BSEE-0131.

OMB Control Number: 1014-0017.

Abstract: The Outer Continental Shelf (OCS) Lands Act at 43 U.S.C. 1334 authorizes the Secretary of the Interior (Secretary) to prescribe rules and regulations necessary for the administration of the leasing provisions of that Act related to mineral resources on the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. These responsibilities are among those delegated to the Bureau of Safety and Environmental Enforcement (BSEE).

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

Regulations governing Safety and Environmental Management Systems (SEMS) are covered in 30 CFR 250, subpart S and are the subject of this collection.

Information on Form BSEE-0131 includes company identification, number of company/contractor injuries and/or illnesses suffered, company/contractor hours worked, EPA National Pollutant Discharge Elimination System (NPDES) permit noncompliances, and oil spill volumes for spills less than 1 barrel. All pieces of information are reported annually as collected during 1 calendar year and the information broken out quarterly. The information is used to develop industry average incident rates that help to describe how well the offshore oil and gas industry is performing. Using the produced data allows BSEE to better focus our regulatory and research programs on areas where the performance measures indicate that operators are having difficulty meeting our expectations. BSEE will be more effective in leveraging resources by redirecting research efforts, promoting appropriate regulatory initiatives, and shifting inspection program emphasis based on performance results.

In this ICR we have removed form BSEE-0130. BSEE has found that there have been no instances of organizations using form BSEE-0130 and that equivalent information can be submitted by organizations following the instructions in § 250.1922(a)(1), “. . . submit documentation to BSEE describing the process for assessing an ASP for accreditation and approving, maintaining, and withdrawing the accreditation of an ASP.” BSEE's Office of Offshore Regulatory Programs will then review the information, request other supporting documents as needed, and propose terms of BSEE oversight, in order to ensure conformance with the entirety of § 250.1922. Therefore, BSEE believes the intent of the form BSEE-0130 is already incorporated in the regulations and will remove the duplicate information collection burden represented by form BSEE-0130. Therefore, since the requirement remains the same, removal of the form does not constitute a program change.

Regulations implementing these responsibilities are among those delegated to BSEE.

Responses are mandatory. No questions of a sensitive nature are asked. BSEE protects information considered proprietary under the Freedom of Information Act (5 U.S.C. 552) and DOI's implementing regulations (43 CFR 2), and under regulations at 30 CFR part 250.197, Data and information to be made available to the public or for limited inspection, 30 CFR part 252, OCS Oil and Gas Information Program.

The information collected under subpart S is critical for us to monitor industry's operations record of safety and environmental management of the OCS. The subpart S regulations hold the operator accountable for the overall safety of the offshore facility, including ensuring that all employees, contractors, and subcontractors have safety policies and procedures in place that support the implementation of the operator's SEMS program and align with the principles of managing safety. The SEMS program describes management commitment to safety and the environment, as well as policies and procedures to assure safety and environmental protection while conducting OCS operations (including those operations conducted by all personnel on the facility). BSEE will use the information obtained by submittals and observed via SEMS audits to ensure that operations on the OCS are conducted safely, as they pertain to both human and environmental factors, and in accordance with BSEE regulations, as well as industry practices. The ultimate work authority (UWA) and other recordkeeping will be reviewed diligently by BSEE during inspections/audits, etc., to ensure that industry is correctly implementing the documentation and that the requirements are being followed properly.

Frequency: On occasion and as required by regulations.

Description of Respondents: Potential respondents comprise OCS Federal oil, gas, or sulphur lessees and/or operators.

Estimated Reporting and Recordkeeping Hour Burden: The estimated annual hour burden for this information collection is a total of 2,238,164 hours. The following chart details the individual components and estimated hour burdens. In calculating the burdens, we assumed that respondents perform certain requirements in the normal course of their activities. We consider these to be usual and customary and took that into account in estimating the burden.

Burden Table
Citation 30 CFR 250 subpart S | Reporting and recordkeeping requirement + | Hour burden | Average number of annual responses | Additional annual burden hours (rounded)
1900-1933 | High Activity Operator: Have a SEMS program, and maintain all documentation and records pertaining to your SEMS program, according to API RP 75, ISO 17011 in their entirety, the COS-2-01, 03, and 04 documents as listed in § 250.198, and all the requirements as detailed in 30 CFR 250, Subpart S. Make your SEMS available to BSEE upon request | 27,054 | 15 operators | 405,810
1900-1933 | Moderate Activity Operator: Have a SEMS program, and maintain all documentation and records pertaining to your SEMS program, according to API RP 75, the three COS documents in their entirety, and all the requirements as detailed in 30 CFR 250, Subpart S. Make your SEMS available to BSEE upon request | 11,625 | 40 operators | 465,000
1900-1933 | Low Activity Operator: Have a SEMS program, and maintain all documentation and records pertaining to your SEMS program, according to API RP 75, the three COS documents in their entirety, and all the requirements as detailed in 30 CFR 250, Subpart S. Make your SEMS available to BSEE upon request | 1,525 | 75 operators | 114,375
1911(b) | Immediate supervisor must conduct a JSA, sign the JSA, and ensure all personnel participating sign the JSA. The individual designated as being in charge of facility approves and signs all JSAs before job starts. NOTE: If activity is repeated, the 1st signed JSA is allowed | 15 mins | 130 operators × 365 days × 50 JSA's per day = * 2,372,500 | 593,125
1914(e); 1928(d), (e); 1929 | Submit Form BSEE-0131. Maintain a contractor employee injury/illness log in the operation area, retain for 2 years, and make available to BSEE upon request (this requirement is included in the form burden). Inform contractors of hazards | 15 | 130 operators | 1,950
1920(a), (b); 1921 | ASP audit for High Activity Operator. | 15 operators × $217,000 audit = $3,255,000/3 = $1,085,000
| ASP audit for Moderate Activity Operator. | 40 operators × $108,000 audit = $4,320,000/3 = $1,440,000
| ASP audit for Low Activity Operator. | 75 operators × $62,000 audit = $4,650,000 3 = $1,550,000
| NOTE: An audit is done once every 3 years. |
1920(b) | Notify BSEE with audit plan/schedule 30 days prior to conducting your audit | 1 | 130 operators/once every 3 years = 44 | 44
1920(c); 1925(a) | Submit to BSEE after completed audit, an audit report of findings and conclusions, including deficiencies and required supporting information/documentation | 4 | 44 operators | 176
1920(d); 1925(b) | Submit/resubmit a copy of your CAP that will address deficiencies identified in audit within 60 days of audit completion | 10 | 170 submissions | 1,700
1922(a) | Organization requests approval for AB; submits documentation for assessing, approving, maintaining, and withdrawing accreditation of ASP | 15 | 3 requests | 45
1922(b) | Make available to BSEE upon request, conflict of interest procedures | 20 mins | 12 requests | 4
1924(b) | Make available to BSEE upon request, evaluation documentation and supporting information relating to your SEMS | 5 | 130 operators | 650
1924(c) | Explain and demonstrate your SEMS during site visit if required; provide evidence supporting your SEMS implementation | 12 | 12 explanations | 144
1925(a) | Pay for all costs associated with BSEE directed ASP audit approximately 10 percent per operator per category: 1 required audit for high operator ($217,000 per audit × 1 audit = $217,000); 4 required audits for moderate operator ($108,000 per audit × 4 audits = $432,000; and 8 required audits for low operator ($62,000 per audit per 8 audits = $496,000) = 13 required audits per year | 13 BSEE directed ASP audits—for a total of $1,145,000
1928 | (1) Document and keep all SEMS audits for 6 years (at least two full audit cycles) at an onshore location | 6 | 130 operators | 780
| (2) JSAs must have documented results in writing and kept onsite for 30 days or until release of the MODU; retain records for 2 years. (3) All MOC records (API RP Sec 4) must be documented, dated, and retained for 2 years. (4) SWA documentation must be kept onsite for 30 days; retain records for 2 years (5) Documentation of employee participation must be retained for 2 years | 62 hrs/mo × 12 mos/yr = 744 hrs | 838 manned facilities | 623.472
| (6) All documentation included in this requirement must be made available to BSEE upon request | 2 | 1,620 unmanned facilities | 3,240
1930(c) | Document decision to resume SWA activities | 8 | 130 operators once every 2 wks = 130 × 52/2 = 3,380 | 27,040
1933(a) | Personnel reports unsafe practices and/or health violations | Burden covered under 30 CFR 250, Subpart A 1014-0022 |  | 0
1933(c) | Post notice where personnel can view their rights for reporting unsafe practices | 15 mins | 2,435 facilities | 609
TOTAL SUBPART S |  |  | 2,381,721 | 2,238,164
|  |  | $5,220,000 Non-Hour Cost Burdens
* We calculated operators conducting 50 JSAs a day (25 JSAs for each 12 hour shift). Some contractors may perform none for a particular day, whereas others may conduct more than 50 per day. This estimate is an average. Also, in Alaska, the Alaska Safety Handbook or ASH is followed on the North Slope, which is a book containing both safety standards and the permit to work process for North Slope operations. The ASH includes work permits which include a hazards analysis and mitigation measures section on the back of the permit.
+ In the future, BSEE may require electronic filing of some submissions.

Estimated Reporting and Recordkeeping Non-Hour Cost Burden: We have identified four non-hour cost burdens associated with the collection of information for a total of $5,220,000. They are as follows:

§ 250.1925(a)—Pay for all costs associated with a BSEE directed audit due to deficiencies.

§ 250.1920(a)—ASP audits conducted for High, Moderate, and Low Activity Operator.

We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on July 8, 2015, we published a Federal Register notice (80 FR 39152) announcing that we would submit this ICR to OMB for approval. The notice provided the required 60-day comment period. In addition, § 250.199 provides the OMB Control Number for the information collection requirements imposed by the 30 CFR 250, subpart S regulations and form. The regulation also informs the public that they may comment at any time on the collections of information and provides the address to which they should send comments. We received one comment in response to the Federal Register, which was not germane to this ICR.

Public Availability of Comments: Before including your address, phone number, email address, or other personal identifying information in your comment, you should be aware that your entire comment—including your personal identifying information—may be made publicly available at any time. While you can ask us in your comment to withhold your personal identifying information from public review, we cannot guarantee that we will be able to do so.

Dated: October 13, 2015.
Robert W. Middleton,
Deputy Chief, Office of Offshore Regulatory Programs.

[FR Doc. 2015-26613 Filed 10-19-15; 8:45 am]

BILLING CODE 4310-VH-P